DEPARTMENT OF STATE

Bureau of Population, Refugees, and Migration

[Public Notice 3649]

Notice of Information Collection Under Emergency Review; Refugee Biographic Data, OMB # 1405-0102

ACTION: Notice.

SUMMARY: The Department of State has submitted the following information collection request to the Office of Management and Budget (OMB) for review and approval in accordance with the emergency review procedures of the Paperwork Reduction Act of 1995.

Type of Request: Reinstatement of collection for which approval has expired.

Originating Office: Bureau of Population, Refugees, and Migration (PRM).

Title of Information Collection: Refugee Biographic Data.

Frequency: On occasion.

Form Number: N/A.

Respondents: Refugees Abroad.

Estimated Number of Respondents: 80,000.

Average Hours Per Response: 30 minutes.

Total Estimated Burden: 40,000 hours.

The proposed information collection is published to obtain comments from the public and affected agencies. Emergency review and approval of this collection has been requested from OMB by April 21, 2001. If granted, the emergency approval is only valid for 180 days. Comments should be directed to the State Department Desk Officer, Office of Information and Regulatory Affairs, Office of Management and Budget (OMB), Washington, DC 20530, (202) 395-3897.

During the first 60 days of this same period a regular review of this information collection is also being undertaken. Comments are encouraged and will be accepted until 60 days from the date of publication of this notice in the Federal Register. The agency requests written comments and suggestions from the public and affected agencies concerning the proposed collection of information. Your comments are being solicited to permit the agency to:

• Evaluate the accuracy of the agency's estimate of the burden of the proposed collection, including the validity of the methodology and assumptions used.

• Enhance the quality, utility, and clarity of the information to be collected.

• Minimize the reporting burden on those who are to respond, including through the use of automated collection techniques or other forms of technology.

FOR ADDITIONAL INFORMATION: Public comments, or requests for additional information, regarding the collection listed in this notice should be directed to Terry Rusch, Director Office of Admissions, Bureau for Population, Refugees and Migration, U.S. Department of State, Washington, DC 20520 (202-663-1047).

Dated: April 4, 2001.
James. P. Kelley,
Executive Director, Bureau of Population, Refugees and Migration, Department of State.

[FR Doc. 01-10128 Filed 4-23-01; 8:45 am]

BILLING CODE 4710-33-U